DEPARTMENT OF THE INTERIOR

National Park Service

[NPS-WASO-NAGPRA-NPS0026943; PPWOCRADN0-PCU00RP14.R50000]

Notice of Inventory Completion: University of California, Davis, Davis, CA

AGENCY: National Park Service, Interior.

ACTION: Notice.

SUMMARY: The University of California, Davis (UC Davis), has completed an inventory of human remains housed in the UC Davis Department of Anthropology Museum, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to UC Davis. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to UC Davis at the address in this notice by January 4, 2019.

ADDRESSES: Megon Noble, NAGPRA Project Manager, University of California, Davis, 433 Mrak Hall, One Shields Avenue, Davis, CA 95616, telephone (530) 752-8501, email mnoble@ucdavis.edu.

SUPPLEMENTARY INFORMATION: Notice is hereby given in accordance with the Native American Graves Protection and Repatriation Act (NAGPRA), 25 U.S.C. 3003, of the completion of an inventory of human remains under the control of the University of California, Davis, Davis, CA. The human remains were removed from Lake County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by UC Davis professional staff in consultation with the Koi Nation of Northern California (previously listed as the Lower Lake Rancheria, California). The Big Valley Band of Pomo Indians of the Big Valley Rancheria, California; Cloverdale Rancheria of Pomo Indians of California; Coyote Valley Band of Pomo Indians of California; Dry Creek Rancheria of Pomo Indians, California (previously listed as the Dry Creek Rancheria of Pomo Indians of California); Elem Indian Colony of Pomo Indians of the Sulphur Bank Rancheria, California; Federated Indians of Graton Rancheria, California; Guidiville Rancheria of California; Habematolel Pomo of Upper Lake, California; Hopland Band of Pomo Indians, California (formerly Hopland Band of Pomo Indians of the Hopland Rancheria, California); Kashia Band of Pomo Indians of the Stewarts Point Rancheria, California; Lytton Rancheria of California; Manchester Band of Pomo Indians of the Manchester Rancheria, California (previously listed as the Manchester Band of Pomo Indians of the Manchester-Point Arena Rancheria, California); Middletown Rancheria of Pomo Indians of California; Pinoleville Pomo Nation, California (previously listed as the Pinoleville Rancheria of Pomo Indians of California); Potter Valley Tribe, California; Redwood Valley or Little River Band of Pomo Indians of the Redwood Valley Rancheria California (previously listed as the Redwood Valley Rancheria of Pomo Indians of California); Robinson Rancheria (previously listed as the Robinson Rancheria Band of Pomo Indians, California and the Robinson Rancheria of Pomo Indians of California); Round Valley Indian Tribes, Round Valley Reservation, California (previously listed as the Round Valley Indian Tribes of the Round Valley Reservation, California); Scotts Valley Band of Pomo Indians of California; and the Sherwood Valley Rancheria of Pomo Indians of California, hereafter referred to as “The Tribes Invited to Consult,” were invited to consult on the NAGPRA Inventory and either deferred or did not respond.

History and Description of the Remains

In 1977, human remains representing, at minimum, two individuals were removed from CA-LAK-471 on the southeastern shore of Clear Lake, adjacent to Anderson Marsh in Lake County, CA. The site was disturbed during installation of a sewage treatment system. The State Water Resources Control Board, Division of Water Quality contracted Ann Peak and Associates to perform a test excavation of the site. Human remains were identified and reinterred at the time of the excavation in cooperation with the Elem Indian Colony. In 1981-1982, the collection was transferred to the UC Davis Department of Anthropology Museum. In 2016, human remains were newly identified within faunal collections from the site. No known individuals were identified. No associated funerary objects are present.

The human remains have been determined to be Native American based on the archeological context of the site. Cultural material from the site includes projectile points, bifaces, flakes, fauna, and groundstone. One radiocarbon date indicate occupation of the site approximately 3,500 to 2,100 years ago. Projectile points indicates a broad temporal range, from 10,000 years ago to the late prehistoric period. Geographic, anthropological, archeological, historical, linguistic, and traditional sources provide evidence of cultural affiliation between the human remains and contemporary Pomo people. Anthropological sources designate Clear Lake as the aboriginal territory of Pomo and Lake Miwok groups. The Southern Clear Lake/Lower Lake area is attributed to the Southeastern Pomo (Kroeber 1925, McCarthy 1985, McLendon and Lowy 1978, McLendon and Oswalt 1978; Swanton 1952; White et al. 2002). Linguistic evidence suggests that Clear Lake is the proto-Pomo homeland (Golla 2007, Oswalt 1964, Whistler1984). Information provided by the Koi Nation indicates that this area is the center of Koi ancestral lands and the tribe's pre-contact political, cultural, and spiritual center. Pomo are represented today by the Big Valley Band of Pomo Indians of the Big Valley Band of Pomo Indians of the Big Valley Rancheria, California; Cloverdale Rancheria of Pomo Indians of California; Coyote Valley Band of Pomo Indians of California; Dry Creek Rancheria of Pomo Indians, California (previously listed as the Dry Creek Rancheria of Pomo Indians of California); Elem Indian Colony of Pomo Indians of the Sulphur Bank Rancheria, California; Federated Indians of Graton Rancheria, California; Guidiville Rancheria of California; Habematolel Pomo of Upper Lake, California; Hopland Band of Pomo Indians, California (formerly Hopland Band of Pomo Indians of the Hopland Rancheria, California); Kashia Band of Pomo Indians of the Stewarts Point Rancheria, California; Koi Nation of Northern California (previously listed as the Lower Lake Rancheria, California), The Consulted Tribe; Lytton Rancheria of California; Manchester Band of Pomo Indians of the Manchester Rancheria, California (previously listed as the Manchester Band of Pomo Indians of the Manchester-Point Arena Rancheria, California); Middletown Rancheria of Pomo Indians of California; Pinoleville Pomo Nation, California (previously listed as the Pinoleville Rancheria of Pomo Indians of California); Potter Valley Tribe, California; Redwood Valley or Little River Band of Pomo Indians of the Redwood Valley Rancheria California (previously listed as the Redwood Valley Rancheria of Pomo Indians of California); Robinson Rancheria (previously listed as the Robinson Rancheria Band of Pomo Indians, California and the Robinson Rancheria of Pomo Indians of California); Round Valley Indian Tribes, Round Valley Reservation, California (previously listed as the Round Valley Indian Tribes of the Round Valley Reservation, California); Scotts Valley Band of Pomo Indians of California; and the Sherwood Valley Rancheria of Pomo Indians of California; hereafter referred to as “The Affiliated Tribes.” The closest affiliation of CA-LAK-471 is to the Southeastern Pomo represented by the Elem Indian Colony of Pomo Indians of the Sulphur Bank Rancheria, California and the Koi Nation of Northern California (previously listed as the Lower Lake Rancheria, California).

Determinations Made by the University of California, Davis

Officials of the University of California, Davis have determined that:

• Pursuant to 25 U.S.C. 3001(9), the human remains described in this notice represent the physical remains of two individuals of Native American ancestry.

• Pursuant to 25 U.S.C. 3001(2), there is a relationship of shared group identity that can be reasonably traced between the Native American human remains and The Affiliated Tribes.

Additional Requestors and Disposition

Lineal descendants or representatives of any Indian Tribe or Native Hawaiian organization not identified in this notice that wish to request transfer of control of these human remains should submit a written request with information in support of the request to Megon Noble, NAGPRA Project Manager, University of California, Davis, 433 Mrak Hall, One Shields Avenue, Davis, CA 95616, telephone (530)752-8501 email mnoble@ucdavis.edu, by January 4, 2019. After that date, if no additional requestors have come forward, transfer of control of the human remains to The Affiliated Tribes may proceed.

UC Davis is responsible for notifying The Tribes Invited to Consult and The Affiliated Tribes that this notice has been published.

Dated: November 7, 2018.
Melanie O'Brien,
Manager, National NAGPRA Program.

[FR Doc. 2018-26445 Filed 12-4-18; 8:45 am]

BILLING CODE 4312-52-P